DEPARTMENT OF TRANSPORTATION

Federal Aviation Administration

Fifth Meeting: RTCA Tactical Operations Committee (TOC)

AGENCY: Federal Aviation Administration (FAA), U.S. Department of Transportation (DOT).

ACTION: Fifth meeting notice of RTCA Tactical Operations Committee.

SUMMARY: The FAA is issuing this notice to advise the public of the fifth meeting of the RTCA Tactical Operations Committee.

DATES: The meeting will be held May 16, 2014 from 9 a.m.-1 p.m.

ADDRESS: The meeting will be held at RTCA, Inc., 1150 18th Street NW., Suite 910, Washington, DC 20036.

FOR FURTHER INFORMATION CONTACT: The RTCA Secretariat, 1150 18th Street NW., Suite 910, Washington, DC 20036, or by telephone at (202) 833-9339, fax at (202) 833-9434, or Web site at http://www.rtca.org or Trin Mitra, TOC Secretary, tmitra@rtca.org, 202-330-0655.

SUPPLEMENTARY INFORMATION: Pursuant to section 10(a) (2) of the Federal Advisory Committee Act (Pub. L. 92-463, 5 U.S.C., App.), notice is hereby given for a meeting of the RTCA Tactical Operations Committee. The agenda will include the following:

May 16

• Opening of Meeting/Introduction of TOC Members.

○ Co-Chairs Mr. Jim Bowman, FedEx Express, and Mr. Dale Wright, National Air Traffic Controllers Association (NATCA).

• Official Statement of Designated Federal Official.

○ Ms. Elizabeth Ray, FAA Air Traffic Organization, Vice President Mission Support.

• Approval of February 6, 2014 Meeting Summary.

• FAA Report.

• FAA Response to Previous TOC Recommendations.

○ FAA present response to NOTAM Task 1 and Task 2 Recommendations, VOR MON Task 1 and Task 2 Recommendations and 20:1 Visual Area Surface Recommendations.

• Notice to Airmen (NOTAM) Follow Up to Recommendation 1.

○ NOTAM Task Group present feedback to questions from the FAA response to Task 1.

• Update from VHF Omni-directional Range (VOR) Minimum Operating Network Task Group.

○ VOR MON Task Group provide status of taskings and interim report.

• Report from the NextGen Advisory Committee (NAC): the NextGen Integration Working Group.

• Update on Regional Task Groups (RTGs).

○ Request approval of new Eastern RTG Co Chair by TOC.

○ Review status of tasking RTGs on Special Activity Airspace.

○ Eastern, Western, Central RTG updates.

• Anticipated Issues for TOC consideration and action at the next meeting.

• Other business.

• Adjourn.

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on April 23, 2014.
Paige Williams,
Management Analyst, NextGen, Business Operations Group, Federal Aviation Administration.

[FR Doc. 2014-09894 Filed 4-29-14; 8:45 am]

BILLING CODE 4910-13-P